DEPARTMENT OF HEALTH AND HUMAN SERVICES

Centers for Disease Control and Prevention

[30Day-14-14BE]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

CDC Worksite Health Scorecard—New—National Center for Chronic Disease Prevention and Health Promotion (NCCDPHP), Centers for Disease Control and Prevention (CDC).

Background and Brief Description

The Centers for Disease Control and Prevention (CDC) is establishing the Worksite Health Scorecard, an online organizational assessment tool, to enable employers to assess the number of evidence-based health promotion interventions or strategies in their worksites to prevent heart disease, stroke, and related conditions such as hypertension, diabetes, and obesity. The CDC Worksite Health Scorecard will support small, mid-size, and large employer with three primary goals: (1) Reduce the risk of chronic disease among employees and their families through science-based workplace health interventions and promising practices; (2) Assist employers in identifying gaps in their health promotion programs, and help them to prioritize high-impact strategies for health promotion at their worksites; and (3) Increase understanding of the organizational programs, policies, and practices that employers of various sizes and industry sectors have implemented to support healthy lifestyle behaviors and monitor changes over time.

CDC will provide outreach to and register approximately 600 employers per year to use the online survey which is open to employers of all sizes, industry sectors, and geographic locations across the country. Worksite Health Scorecard users will create a user account, complete the online assessment and receive an immediate feedback report that summarizes the current status of their worksite health program; identifies gaps in current programming; benchmarks individual employer results against other users of the system; and provides access to worksite health tools and resources to address employer gaps and priority program areas.

CDC will use the information collected to evaluate the effectiveness of the Worksite Health Scorecard in terms of (1) identifying success drivers for building and maintaining successful workplace health programs; (2) raising awareness and knowledge of science-based worksite health programs, policies and practices; and (3) develop additional worksite health tools and resources for employers. The information will also be used to evaluate the impact of the CDC Worksite Health Scorecard on employer adoption of worksite health programs, policies, and environmental supports.

OMB approval is requested for three years. Participation in the CDC Worksite Health Scorecard is voluntary and there are no costs to participants other than their time. The total estimated annualized burden hours are 300.

Estimated Annualized Burden Hours
Type of respondent | Form name | Number of respondents | Number of responses per respondent | Average burden per response (in hr)
Employers | CDC Worksite Health Scorecard | 600 | 1 | 30/60

Leroy Richardson,
Chief, Information Collection Review Office, Office of Scientific Integrity, Office of the Associate Director for Science, Office of the Director, Centers for Disease Control and Prevention.

[FR Doc. 2014-02026 Filed 1-30-14; 8:45 am]

BILLING CODE 4163-18-P